DEPARTMENT OF THE INTERIOR

National Park Service

[NPS-WASO-NRSS-NSNSD-22441; PPWONRADN1, PPMRSNR1Y.NS000 (177)]

Information Collection Request Sent to the Office of Management and Budget (OMB) for Approval; Natural Sounds/Quiet Valuation Survey: Focus Group Pre-Test

AGENCY: National Park Service, Interior.

ACTION: Notice; request for comments.

SUMMARY: We (National Park Service, NPS) have sent an Information Collection Request (ICR) to OMB for review and approval. We summarize the ICR below and describe the nature of the collection and the estimated respondent burden. As required by the Paperwork Reduction Act of 1995 and as part of our continuing efforts to reduce paperwork and respondent burden, we invite the general public and other Federal agencies to take this opportunity to comment on this IC. This collection is scheduled to expire on November 30, 2016. We may not conduct or sponsor and you are not required to respond to a collection of information unless it displays a currently valid OMB control number.

DATES: To ensure that your comments on this ICR are considered, OMB must receive them on or before December 22, 2016.

ADDRESSES: Please direct all written comments on this ICR directly to the Office of Management and Budget (OMB) Office of Information and Regulatory Affairs, Attention: Desk Officer for the Department of the Interior, to OIRA_Submission@omb.eop.gov (email) or 202-395-5806 (fax); and identify your submission as “1024-0296 NATSOUND”. Please also send a copy of your comments to Phadrea Ponds, Information Collection Coordinator, National Park Service, 1201 Oakridge Drive, Fort Collins, CO 80525 (mail); or phadrea_ponds@nps.gov (email). Please reference Information Collection “1024-0296 NATSOUND” in the subject line. You may also access this ICR at www.reginfo.gov. Follow the instructions to review Department of the Interior collections under review by OMB.

FOR FURTHER INFORMATION CONTACT: Frank Turina, Night Skies and Natural Sounds Division, National Park Service, 1201 Oakridge Drive, Fort Collins, Colorado 80525 (mail); Frank_Turina@nps.gov (email). Please reference Information Collection “1024-0296 NATSOUND” in the subject line.

SUPPLEMENTARY INFORMATION:

I. Abstract

Under the Organic Act of 1916 (54 U.S.C.100701), the NPS is charged with conserving the scenery, natural and historic objects, and wildlife in its units. The acoustical environment or soundscape is a fundamental aspect of NPS units and critical to visitors' interaction with and interpretation of said resources. While the NPS has policies in place to monitor and manage acoustical conditions, it does not have information on how visitors value preserving natural sounds and/or reducing noise impacts. We are planning to conduct a stated-preference survey of visitors, however additional testing is needed to ensure that the future results are as reliable as possible.

Between 2011 and 2014, researchers at the U.S. Department of Transportation Volpe Center (DOT) requested and received OMB approval (OMB Control Number 1024-0269) to conduct a series of focus groups to pre-test materials for a stated-preference valuation study designed to estimate values for maintaining and enhancing natural soundscapes. The findings from the study indicated that in order to advance the project, another expert panel should be convened to determine how to address the issues raised by the focus groups. A subsequent peer review of this work commissioned by Night Skies and Natural Sounds Division (NSNSD) indicated that fundamental aspects of the survey, notably the framing, presentation and format of the valuation scenario, required restructuring. The purpose of this ICR is to request approval to continue survey development and pre-testing activities that were initiated in 2013. This continuation will involve a series of eight focus groups in two NPS units (four per unit). The intent of the focus groups is to refine and test existing survey materials. Specifically, previous pre-testing efforts indicated that further refinement and testing of stated-preference questions was necessary. Best practice guidelines in the conduct of stated-preference studies require that survey content, language and instructions be clearly understood by respondents. Failure to continue testing the instrument could possibly compromise the accuracy of information collected through the survey when it is implemented

II. Data

OMB Control Number: 1024-0269.

Title: Natural Sounds/Quiet Valuation Survey.

Type of Request: Renewal of a currently approved collection.

Affected Public: Park visitors; individual and general households.

Respondent Obligation: Voluntary.

Frequency of Collection: One time.

Estimated Number of Annual Responses: 80 respondents. This collection will involve eight two-hour focus group sessions. We estimate that each group will have at most 10 participants.

Annual Burden Hours: 160 hours; two hours per respondent.

Estimated Annual Reporting and Recordkeeping “Non-Hour Cost”: None.

III. Comments

A Notice was published in the Federal Register (81 FR 63492) on September 15, 2016, stating that we intended to request OMB approval of our information collection described above. In that Notice, we solicited public comment for 60 days ending November 23, 2013. We received the following two substantive comments in response to that Notice:

Comment #1 received October 31, 2016. “I have reviewed the National Park Service's (NPS) Proposed Information Collection; Natural Sounds/Quiet Valuation Survey, notice and request for comments that appeared in the September 15, 2016 Federal Register (81 FR 63492). According to the notice, the NPS plans to conduct a stated-preference survey of visitors in two park units in order to estimate individual values for maintenance of improvement of acoustical conditions within a national park setting, including a series of focus groups in two NPS units. This “sampling” of two NPS units is far too small for the NPS to determine park users objections to noise inflected on our National Parks. In particular, Olympic National Park and Olympic National Forest continue to be adversely impact by U.S. Navy jets (http://blog.seattlepi.com/seattlepolitics/2015/05/11/is-noise-from-navy-jets-a-threat-to-olympic-national-park-kilmer-wants-soundings/). In addition, the Navy has proposed expanded its electronic warfare testing over Olympic National Park and Olympic National Forest (http://www.military.com/daily-news/2015/11/09/navy-olympic-national-park-look-jet-noise.html). In summary, the NPS proposed information collection will be woefully inadequate unless it includes Olympic National Park users.”

NPS response on October 31, 2016: “Thank you for your response to the 60 day Federal Register Notice (81 FR 63492) dated September 15, 2016 for the Proposed Information Collection: Natural Sounds/Quiet Valuation Survey. To be clear, this request is not for the final study on this topic. This request is for sole purpose of conducting a series of focus groups at two National Parks. These focus groups will be used test the reliability and to validate the question we intend to use in the final version of the survey. In order to conduct these focus groups the request must receive OMB; therefore a Federal Register Notice is required. The questions will be calibrated as a result of the focus groups. We will not conduct a “full” survey until the questions are peer reviewed and deemed reliable by a panel of non-NPS social scientists. The final version of the survey will be submitted to OMB for review and a separate Federal Register Notice will be published at that time. Neither the date nor the parks to be used in the study have been determined. Thank you again and your comment and our response will be reported to OMB in our request for approval—of the focus groups.”

Comment #2 from the American Motorcyclist Association dated November 3, 2016 (received by postal mail November 7, 2016): This comment addressed the following issues: (1) Whether additional data collection is necessary, and a request for consultation in drafting language for policies addressing excessive noise; (2) A recommendation to measure vehicle noise levels according to established methods, and to consider the implications of alternative study funding sources; and, (3) A request to consider alternative data collection modes that may be less burdensome to visitors such as internet administration or mail-back postcards.

NPS response on November 8, 2016: Further refinement and testing of survey materials is necessary because previous focus group results, and an expert peer review, indicated that fundamental aspects of the valuation scenario and questionnaire were not functioning properly. No new noise measurement efforts will be conducted in conjunction with this study. Rather, existing recordings will be utilized to test respondent sensitivity to noise, and elicit a value for reducing or eliminating noises. To ensure that these audio recordings are properly and consistently administered to visitors in the full survey, it will be necessary to intercept them in the park units. NPS will take whatever measures are feasible to minimize respondent burden in the full survey.

We again invite comments concerning this information collection on:

• Whether the proposed collection of information is necessary for the agency to perform its duties, including whether the information is useful;

• The accuracy of the agency's estimate of the burden of the proposed collection of information;

• Ways to enhance the quality, usefulness, and clarity of the information to be collected; and

• Ways to minimize the burden on the respondents, including the use of automated collection techniques or other forms of information technology.

Comments that you submit in response to this notice are a matter of public record. Before including your address, phone number, email address, or other personal identifying information in your comment, you should be aware that your entire comment, including your personal identifying information, may be made publicly available at any time. While you can ask us in your comment to withhold your personal identifying information from public review, we cannot guarantee that we will be able to do so.

Dated: November 16, 2016.
Madonna L. Baucum,
Information Collection Clearance Officer, National Park Service.

[FR Doc. 2016-28017 Filed 11-21-16; 8:45 am]

BILLING CODE 4312-52-P